SOCIAL SECURITY ADMINISTRATION

20 CFR Part 404

[Regulation No. 4]

RIN 0960-AF28

Revised Medical Criteria for Evaluating Impairments of the Digestive System

AGENCY: Social Security Administration.

ACTION: Proposed rules; limited reopening of comment period.

SUMMARY: We are reopening for limited purposes the comment period for the notice of proposed rulemaking (NPRM) that we published in the Federal Register on November 14, 2001 (66 FR 57009). We have decided to reopen the comment period for 60 days to solicit additional public comments on our proposal to revise and remove several of the chronic liver disease listings from the Listing of Impairments (the listings) because we believe that the revisions we propose are significant. We are reopening the comment period only to accept comments about chronic liver disease. Due to the limited reopening of the NPRM, we will not consider any comments on other aspects of the proposed listings for the digestive system.

DATES: To be sure your comments are considered, we must receive them by January 7, 2005.

ADDRESSES: You may give us your comments by: using our Internet site facility (i.e., Social Security Online) at: http://policy.ssa. gov/pnpublic.nsf/LawsRegs or the Federal eRulemaking Portal at http://www.regulations.gov; e-mail to regulations@ssa.gov; telefax to (410) 966-2830; or by letter to the Commissioner of Social Security, P.O. Box 17703, Baltimore, Maryland 21235-7703. You may also deliver them to the Office of Regulations, Social Security Administration, 107 Altmeyer Building, 6401 Security Boulevard, Baltimore, Maryland 21235-6401, between 8 a.m. and 4:30 p.m. on regular business days. Comments are posted on our Internet site, at http://policy.ssa. gov/pnpublic.nsf/LawsRegs or you may inspect them on regular business days by making arrangements with the contact person shown in this preamble.

Electronic Version: The electronic file of this document is available on the date of publication in the Federal Register at http://www.gpoaccess. gov/fr/index.html. It is also available on the Internet site for SSA (i.e., Social Security Online) at: http://policy.ssa. gov/pnpublic.nsf/LawsRegs.

FOR FURTHER INFORMATION CONTACT: Suzanne DiMarino, Social Insurance Specialist, Office of Regulations, Social Security Administration, 107 Altmeyer Building, 6401 Security Boulevard, Baltimore, Maryland 21235-6401, (410) 965-1767 or TTY (410) 966-5609. For information on eligibility or filing for benefits, call our national toll-free number, 1-800-772-1213 or TTY 1-800-325-0778, or visit our Internet Web site, Social Security Online, at www.socialsecurity.gov.

SUPPLEMENTARY INFORMATION: On November 14, 2001, we published “Revised Medical Criteria for Evaluating Impairments of the Digestive System” as an NPRM in the Federal Register (66 FR 57009). You may find this document at our Web site: http://policy.ssa.gov/erm/ rules.nsf/5da82b031 a6677dc85256b41006b7f8d/ a37bb476cb 227bdd85256b410067a74d? OpenDocument.

This NPRM proposed to revise the criteria in the Listings that we use to evaluate claims involving impairments of the digestive system. We explained in the proposed rules that we were revising and removing several of the chronic liver disease listings because of the progress in medical and surgical advancements in treating these diseases. When we published the NPRM, we provided a 60-day comment period that ended January 14, 2002. We have reviewed and considered all the comments we received during the comment period. However, we received few comments regarding our proposed revisions to the listings that specifically involve chronic liver disease. Because we believe that the revisions we propose are significant, we want to ensure that the public has another opportunity to review and comment on those proposals involving the evaluation of chronic liver disease. In order to allow the public sufficient time to review and comment on our proposals, we have decided to provide an additional 60-day comment period within which to comment on our proposal to revise and remove several of the listings for evaluating chronic liver disease. If you have already provided comments on the proposals, your comments will be considered and you do not need to resubmit them.

Dated: November 1, 2004.
Jo Anne B. Barnhart,
Commissioner of Social Security.

[FR Doc. 04-24782 Filed 11-5-04; 8:45 am]

BILLING CODE 4191-02-P